DEPARTMENT OF ENERGY

Federal Energy Regulatory Commission

[Docket No. CP08-96-001]

Arlington Storage Company, LLC; Notice of Motion and Request for Shortened Response Time

December 31, 2008.

Take notice that on December 30, 2008, Arlington Storage Company, LLC (ASC), Two Brush Creek Boulevard, Kansas City, Missouri 64112, filed a motion to withdraw its Exhibit I, which contained executed precedent agreements, submitted on May 19, 2008 with its application in CP08-96-000. Alternatively, in the event withdrawal of the filing of Exhibit I is not practicable, ASC requests rehearing of Ordering Paragraph (E) of the Commission's December 18 Order ¹, all as more fully set forth in the application which is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

¹ Arlington Storage Company, LLC, 125 FERC ¶ 61,306 (2008).

ASC avers that the filing of such precedent agreements was not material to the Commission's approval of the Project, pursuant to section 7(c) of the Natural Gas Act. If the withdrawal is not practicable, ASC, on rehearing, asks that the condition in Ordering Paragraph (E) requiring execution of firm service agreements prior to the start of construction be rescinded. Additionally, ASC requests a shortened response period, and that the Commission act no later than January 16th, 2009 on its motion or request for rehearing.

Any questions regarding the application are to be directed to William R. Moler, Senior Vice President, Midstream Operations, Arlington Storage Company, Two Brush Creek Boulevard, Kansas City, Missouri 64112; phone number (816) 329-5344 or by e-mail at bmoler@inergyservices.com.

Comment Date: January 8, 2009.

Kimberly D. Bose,
Secretary.

[FR Doc. E9-51 Filed 1-6-09; 8:45 am]

BILLING CODE 6717-01-P